DEPARTMENT OF EDUCATION

Applications for New Awards; Magnet Schools Assistance Program

AGENCY: Office of Elementary and Secondary Education, Department of Education.

ACTION: Notice.

SUMMARY: The Department of Education (Department) is issuing a notice inviting applications (NIA) for fiscal year (FY) 2022 for the Magnet Schools Assistance Program (MSAP), Assistance Listing Number 84.165A. This notice relates to the approved information collection under OMB control number 1855-0011.

DATES:

Application Available: February 22, 2022.

Deadline for Notice of Intent to Apply: March 24, 2022.

Deadline for Transmittal of Applications: April 25, 2022.

Deadline for Intergovernmental Review: July 7, 2022.

PreApplication—Webinar Information: No later than March 4, 2022, MSAP will begin holding webinars to provide technical assistance to interested applicants. Detailed information regarding these webinars will be provided on the MSAP website at https://oese.ed.gov/offices/office-of-discretionary-grants-support-services/school-choice-improvement-programs/magnet-school-assistance-program-msap/. Recordings of all webinars will be available on the MSAP website following the sessions.

ADDRESSES: For the addresses for obtaining and submitting an application, please refer to our Common Instructions for Applicants to Department of Education Discretionary Grant Programs, published in the Federal Register on December 27, 2021 (86 FR 73264) and available at www.federalregister.gov/d/2021-27979. Please note that these Common Instructions supersede the version published on February 13, 2019, and, in part, describe the transition from the requirement to register in SAM.gov a Data Universal Numbering System (DUNS) number to the implementation of the Unique Entity Identifier (UEI). More information on the phase-out of DUNS numbers is available at www2.ed.gov/about/offices/list/ofo/docs/unique-entity-identifier-transition-fact-sheet.pdf.

FOR FURTHER INFORMATION CONTACT: Gillian Cohen-Boyer, U.S. Department of Education, 400 Maryland Avenue SW, Room 3C134, Washington, DC 20202-5970. Telephone: (202) 401-1259. Email: msap.team@ed.gov.

If you use a telecommunications device for the deaf (TDD) or a text telephone (TTY), call the Federal Relay Service (FRS), toll free, at 1-800-877-8339.

SUPPLEMENTARY INFORMATION:

Full Text of Announcement

I. Funding Opportunity Description

Purpose of Program: MSAP, authorized under Title IV, part D of the Elementary and Secondary Education Act of 1965, as amended (ESEA), provides grants to local educational agencies (LEAs) and consortia of LEAs to create or revise magnet schools under required or voluntary desegregation plans.

As written in section 4401(b) of the ESEA, 20 U.S.C. 7231, “the purpose of MSAP is to assist LEAs in the desegregation of schools by providing financial assistance to eligible LEAs for: (1) The elimination, reduction, or prevention of minority group isolation (MGI) in elementary schools and secondary schools with substantial proportions of minority students, which shall include assisting in the efforts of the United States to achieve voluntary desegregation in public schools; (2) the development, implementation, and expansion of magnet school programs that will assist LEAs in achieving systemic reforms and providing all students the opportunity to meet challenging State academic standards; (3) the development, design, and expansion of innovative educational methods and practices that promote diversity and increase choices in public elementary schools and public secondary schools and public educational programs; (4) courses of instruction within magnet schools that will substantially strengthen the knowledge of academic subjects and the attainment of tangible and marketable career, technological, and professional skills of students attending such schools; (5) improving the capacity of LEAs, including through professional development, to continue operating magnet schools at a high performance level after Federal funding for the magnet schools is terminated; and (6) ensuring that all students enrolled in the magnet school programs have equitable access to high quality education that will enable the students to succeed academically and continue with postsecondary education or employment.”

Background: Since its inception nearly 40 years ago, MSAP has supported LEAs in establishing numerous successful magnet schools, defined under section 4402 of the ESEA, 20 U.S.C. 7231a, as public elementary or secondary schools that offer “a special curriculum capable of attracting substantial numbers of students of different racial backgrounds.” In this competition, the Department seeks to focus applicants on effectively addressing the legislative purpose of the MSAP statute—assisting LEAs in the desegregation of schools through the use of magnet schools—by requiring applicants to demonstrate how they intend to align the elements of their proposed MSAP projects with their required (e.g., court-ordered) or voluntary desegregation plans, which must be submitted as a component of their applications under sections 4403 and 4404 of the ESEA, 20 U.S.C. 7231b and 7231c. In accordance with 34 CFR 280.2 and 280.20, under Section III, Part 4 of this notice, applicants must provide context and a summary description for the goals of their desegregation plan and how Federal funding for magnet schools will assist in achieving the LEAs' specific goals related to the reduction, prevention, or elimination of MGI. This information will assist the Department in confirming the LEA's eligibility for an award and inform the Department's review of the applicant's project narrative against the selection criteria outlined in Section V, Part 1 of this notice.

Beyond proposing high-quality projects that provide unique educational opportunities capable of attracting substantial numbers of students of different backgrounds, we encourage applicants to employ a range of strategies to maximize the potential of bringing students together from different racial backgrounds. For example, under section 4407 of the ESEA, 20 U.S.C. 7231f, MSAP permits LEAs to support student transportation to and from magnet schools, provided the transportation costs are sustainable beyond the grant period and the costs do not constitute a significant portion of the LEA's grant funds. Under Competitive Preference Priority 5, we provide competitive preference for applicants that propose to establish, expand, or strengthen inter-district and regional magnet programs consistent with section 4407(a)(8) of the ESEA, 20 U.S.C. 7231f.¹ Responses to Competitive Preference Priority 5 could include, among a range of other activities, establishing and participating in a voluntary, inter-district transfer program for students from varied neighborhoods; making strategic decisions regarding the selection of magnet school sites or revising school boundaries, attendance zones, or feeder patterns to take into account neighboring communities; and formal merging or coordinating among multiple educational jurisdictions in order to pool resources, provide transportation, and expand high-quality public school options for students from low-income backgrounds.

¹ We note the FY 2022 House Appropriations Report (H.R. Rep. No. 117-96 at 276 (2021)) directs the Department to include such a priority, citing a 2019 report by the Urban Institute, which indicated that two-thirds of total school segregation in metropolitan areas is due to segregation between, rather than within, school districts. Monarrez, Tómas, Kisida, Brian, and Chingos, Matthew. When is a school segregated? Making sense of segregation 65 years after Brown v. Board of Education. Urban Institute, September 27, 2019. Retrieved January 3, 2021 from www.urban.org/research/publication/when-school-segregated-making-sense-segregation-65-years-after-brown-v-board-education.

In order to increase the overall diversity of the school settings in which students learn, under Competitive Preference Priority 6, we provide competitive preference to LEAs that propose to connect their projects to broader school and district plans for increasing students' access to high-quality instruction delivered by a diverse group of educators.

In Invitational Priority 1, we encourage applicants to prioritize the establishment of whole-school magnet programs in order to promote learning for students in ways that ensure all students within a school have the opportunity to successfully partake in the special curriculum and meet challenging academic content standards and decrease the likelihood of tracking within schools.

Additionally, the Department is interested in projects that propose to coordinate with relevant government entities—such as housing and transportation authorities, among others—given the impact that other public policy choices may have on the composition of a school's student body. For example, the Department seeks applications connecting MSAP projects to nearby public housing redevelopment projects, such as those funded through the Department of Housing and Urban Development (HUD) Choice Neighborhoods Initiative and the HUD Rental Assistance Demonstration program. Accordingly, under Invitational Priority 2, and more generally through the selection criteria outlined in Section V of this notice, we encourage projects that propose to coordinate efforts with housing and transportation authorities, as well as other Federal, State, or local agencies, or community-based organizations.

Finally, to assist grantees in grounding their programs in the existing knowledge base as well as identifying practices that will improve LEA capacity to continue operating magnet schools at high performance levels beyond the funding period, this competition provides for applicants to address evidence in two ways. Under Competitive Preference Priority 2, applicants may demonstrate that they intend to implement activities that are evidence-based in their proposed MSAP project schools. Additionally, in response to the quality of the project evaluation selection criterion, applicants should discuss how they will monitor the implementation and results of their MSAP project activities, as well as how they intend to identify practices to be sustained beyond the project period through the final evaluation reports described in Section VI, Part 4(c) of this notice, which should be designed to yield results at the level of promising evidence or higher.

Priorities: This competition includes six competitive preference priories and two invitational priorities. In accordance with 34 CFR 75.105(b)(2)(ii), Competitive Preference Priorities 1 and 3 are from the MSAP regulations at 34 CFR 280.32. In accordance with 34 CFR 75.105(b)(2)(iv), Competitive Preference Priorities 2 and 4 are from section 4406 of the ESEA, 20 U.S.C. 7231e. In accordance with 34 CFR 75.105(b)(2)(v), Competitive Preference Priority 5 is from allowable activities specified in section 4407 of the ESEA, 20 U.S.C. 7231f. Competitive Preference Priority 6 is from the Final Priorities and Definitions—Secretary's Supplemental Priorities and Definitions for Discretionary Grants Programs, published in the Federal Register on December 10, 2021 (86 FR 70612) (Supplemental Priorities).

Competitive Preference Priorities: For FY 2022 and any subsequent year in which we make awards from the list of unfunded applications from this competition, these priorities are competitive preference priorities. Under 34 CFR 75.105(c)(2)(i), we award one additional point to an application that meets Competitive Preference Priority 1; up to three additional points to an application, depending on how well the application meets Competitive Preference Priority 2; up to two additional points to an application, depending on how well the application meets Competitive Preference Priority 3; up to three additional points to an application, depending on how well the application meets Competitive Preference Priority 4; up to four additional points to an application depending on how well the application meets Competitive Preference Priority 5; and up to two additional points to an application depending on how well the application meets Competitive Preference Priority 6.

Based on the quality of the applicant's response in addressing any or all of these priorities, an application may be awarded up to a total of 15 additional points. Applicants may apply under any, all, or none of the competitive preference priorities. The maximum possible points for each competitive preference priority are indicated in parentheses following the name of the priority. These points are in addition to any points the application earns under the selection criteria in this notice.

These priorities are:

Competitive Preference Priority 1—Need for Assistance (0 or 1 point).

The Secretary evaluates the applicant's need for assistance by considering—

(1) The costs of fully implementing the magnet schools project as proposed;

(2) The resources available to the applicant to carry out the project if funds under the program were not provided;

(3) The extent to which the costs of the project exceed the applicant's resources; and

(4) The difficulty of effectively carrying out the approved plan and the project for which assistance is sought, including consideration of how the design of the magnet school project—e.g., the type of program proposed, the location of the magnet school within the LEA—impacts the applicant's ability to successfully carry out the approved plan.

Competitive Preference Priority 2—New or Revised Magnet Schools Projects and Strength of Evidence to Support Proposed Projects (up to 3 points).

The Secretary determines the extent to which the applicant proposes to (1) carry out a new, evidence-based magnet school program; (2) significantly revise an existing magnet school program, using evidence-based methods and practices, as available; or (3) replicate an existing magnet school program that has a demonstrated record of success in increasing student academic achievement and reducing isolation of minority groups.

Competitive Preference Priority 3—Selection of Students (up to 2 points).

The Secretary determines the extent to which the applicant proposes to select students to attend magnet schools by methods such as lottery, rather than through academic examination.

Competitive Preference Priority 4—Increasing Racial Integration and Socioeconomic Diversity (up to 3 points).

The Secretary determines the extent to which the applicant proposes to increase racial integration by taking into account socioeconomic diversity in designing and implementing magnet school programs.

Competitive Preference Priority 5—Inter-district and Regional Approaches (up to 4 points).

Under this priority, an applicant must demonstrate that grant funds will be used to enable the LEA, or consortium of such agencies, or other organizations partnered with such agency or consortium, to establish, expand, or strengthen inter-district and regional magnet programs.

Competitive Preference Priority 6—Supporting a Diverse Educator Workforce and Professional Growth to Strengthen Student Learning (up to 2 points).

Projects that are designed to increase the proportion of well-prepared, diverse, and effective educators serving students, with a focus on underserved students, through building or expanding high-poverty school districts' capacity to hire, support, and retain an effective and diverse educator workforce, through one or both of the following:

(a) Adopting or expanding comprehensive, strategic career and compensation systems that provide competitive compensation and include opportunities for educators to serve as mentors and instructional coaches, or to take on additional leadership roles and responsibilities for which educators are compensated.

(b) Developing data systems, timelines, and action plans for promoting inclusive and bias-free human resources practices that promote and support development of educator diversity.

Invitational Priorities: For FY 2022 and any subsequent year in which we make awards from the list of unfunded applications from this competition, these are invitational priorities. Under 34 CFR 75.105(c)(1) we do not give an application that meets these invitational priorities a competitive or absolute preference over other applications.

These priorities are:

Invitational Priority 1—Whole-School Magnet Programs.

Projects that propose to implement “whole-school magnet” schools in which all students enrolled in the school participate in the magnet school program, rather than schools that implement magnet programs within schools which are offered to less than the entire school population.

Invitational Priority 2—Coordination Across Agencies and Organizations.

Projects that propose to coordinate efforts with relevant governmental agencies, such as housing or transportation authorities, or community organizations to promote student diversity and achievement in magnet schools. This may include projects coordinated with public housing redevelopment efforts, such as those funded through the HUD Choice Neighborhoods Initiative or the HUD Rental Assistance Demonstration program.

Definitions: The definition of “evidence-based” is from 20 U.S.C. 7801. The definitions of “desegregation” and “feeder school” are from 34 CFR 280.4. The definitions of “demonstrates a rationale,” “experimental study,” “logic model,” “project component,” “promising evidence,” “quasi-experimental design study,” “relevant outcome,” and “What Works Clearinghouse Handbooks” are from 34 CFR 77.1(c). The definitions of “children or students with disabilities,” “disconnected youth,” “educator,” “English learner,” “military- or veteran-connected student,” and “underserved student” are from the Supplemental Priorities.

Children or students with disabilities means children with disabilities as defined in section 602(3) of the Individuals with Disabilities Education Act (IDEA) (20 U.S.C. 1401(3)) and 34 CFR 300.8, or students with disabilities, as defined in the Rehabilitation Act of 1973 (29 U.S.C. 705(37), 705(202)(B)).

Demonstrates a rationale means a key project component included in the project's logic model is informed by research or evaluation findings that suggest the project component is likely to improve relevant outcomes.

Desegregation, in reference to a plan, means a plan for the reassignment of children or faculty to remedy the illegal separation of minority group children or faculty in the schools of an LEA or a plan for the reduction, elimination, or prevention of minority group isolation in one or more of the schools of an LEA.

Disconnected youth means an individual, between the ages 14 and 24, who may be from a low-income background, experiences homelessness, is in foster care, is involved in the justice system, or is not working or not enrolled in (or at risk of dropping out of) an educational institution.

Educator means an individual who is an early learning (as defined in the Supplemental Priorities) educator, teacher, principal or other school leader, specialized instructional support personnel (e.g., school psychologist, counselor, school social worker, early intervention service personnel), paraprofessional, or faculty.

English learner means an individual who is an English learner as defined in section 8101(20) of the ESEA, or an individual who is an English language learner as defined in section 203(7) of the Workforce Innovation and Opportunity Act.

Evidence-based means an activity, strategy, or intervention that—

(i) Demonstrates a statistically significant effect on improving student outcomes or other relevant outcomes based on—

(A) Strong evidence from at least one well-designed and well-implemented experimental study;

(B) Moderate evidence from at least one well-designed and well-implemented quasi-experimental study; or

(C) Promising evidence from at least one well-designed and well-implemented correlational study with statistical controls for selection bias; or

(ii) (A) Demonstrates a rationale based on high-quality research findings or positive evaluation that such activity, strategy, or intervention is likely to improve student outcomes or other relevant outcomes; and

(B) Includes ongoing efforts to examine the effects of such activity, strategy, or intervention.

Experimental study means a study that is designed to compare outcomes between two groups of individuals (such as students) that are otherwise equivalent except for their assignment to either a treatment group receiving a project component or a control group that does not. Randomized controlled trials, regression discontinuity design studies, and single-case design studies are the specific types of experimental studies that, depending on their design and implementation (e.g., sample attrition in randomized controlled trials and regression discontinuity design studies), can meet What Works Clearinghouse (WWC) standards without reservations as described in the WWC Handbooks):

(i) A randomized controlled trial employs random assignment of, for example, students, teachers, classrooms, or schools to receive the project component being evaluated (the treatment group) or not to receive the project component (the control group).

(ii) A regression discontinuity design study assigns the project component being evaluated using a measured variable (e.g., assigning students reading below a cutoff score to tutoring or developmental education classes) and controls for that variable in the analysis of outcomes.

(iii) A single-case design study uses observations of a single case (e.g., a student eligible for a behavioral intervention) over time in the absence and presence of a controlled treatment manipulation to determine whether the outcome is systematically related to the treatment.

Feeder school means a school from which students are drawn to attend a magnet school.

Logic model (also referred to as a theory of action) means a framework that identifies key project components of the proposed project (i.e., the active “ingredients” that are hypothesized to be critical to achieving the relevant outcomes) and describes the theoretical and operational relationships among the key project components and relevant outcomes.

Military- or veteran-connected student means a child participating in an early learning (as defined in the Supplemental Priorities) program, a student enrolled in preschool through grade 12, or a student enrolled in career and technical education or postsecondary education who has a parent or guardian who is a veteran of the uniformed services (as defined by 37 U.S.C. 101), in the Army, Navy, Air Force, Marine Corps, Coast Guard, Space Force, National Guard, Reserves, National Oceanic and Atmospheric Administration, or Public Health Service or is a veteran of the uniformed services with an honorable discharge (as defined by 38 U.S.C. 3311).

Project component means an activity, strategy, intervention, process, product, practice, or policy included in a project. Evidence may pertain to an individual project component or to a combination of project components (e.g., training teachers on instructional practices for English learners and follow-on coaching for these teachers).

Promising evidence means that there is evidence of the effectiveness of a key project component in improving a relevant outcome, based on a relevant finding from one of the following:

(i) A practice guide prepared by WWC reporting a “strong evidence base” or “moderate evidence base” for the corresponding practice guide recommendation;

(ii) An intervention report prepared by the WWC reporting a “positive effect” or “potentially positive effect” on a relevant outcome with no reporting of a “negative effect” or “potentially negative effect” on a relevant outcome; or

(iii) A single study assessed by the Department, as appropriate, that--

(A) Is an experimental study, a quasi-experimental design study, or a well-designed and well-implemented correlational study with statistical controls for selection bias (e.g., a study using regression methods to account for differences between a treatment group and a comparison group); and

(B) Includes at least one statistically significant and positive (i.e., favorable) effect on a relevant outcome.

Quasi-experimental design study means a study using a design that attempts to approximate an experimental study by identifying a comparison group that is similar to the treatment group in important respects. This type of study, depending on design and implementation (e.g., establishment of baseline equivalence of the groups being compared), can meet WWC standards with reservations, but cannot meet WWC standards without reservations, as described in the WWC Handbooks.

Relevant outcome means the student outcome(s) or other outcome(s) the key project component is designed to improve, consistent with the specific goals of the program.

Underserved student means a student (which includes students in K-12 programs) in one or more of the following subgroups:

(a) A student who is living in poverty or is served by schools with high concentrations of students living in poverty.

(b) A student of color.

(c) A student who is a member of a federally recognized Indian Tribe.

(d) An English learner.

(e) A child or student with a disability.

(f) A disconnected youth.

(g) A technologically unconnected youth.

(h) A migrant student.

(i) A student experiencing homelessness or housing insecurity.

(j) A lesbian, gay, bisexual, transgender, queer or questioning, or intersex (LGBTQI+) student.

(k) A student who is in foster care.

(l) A student without documentation of immigration status.

(m) A pregnant, parenting, or caregiving student.

(n) A student impacted by the justice system, including a formerly incarcerated student.

(o) A student performing significantly below grade level.

(p) A military- or veteran-connected student.

What Works Clearinghouse (WWC) Handbooks means the standards and procedures set forth in the WWC Standards Handbook, Versions 4.0 or 4.1, and WWC Procedures Handbook, Versions 4.0 or 4.1, or in the WWC Procedures and Standards Handbook, Version 3.0 or Version 2.1 (all incorporated by reference, see § 77.2). Study findings eligible for review under WWC standards can meet WWC standards without reservations, meet WWC standards with reservations, or not meet WWC standards. WWC practice guides and intervention reports include findings from systematic reviews of evidence as described in the WWC Handbooks documentation.

Note: The What Works Clearinghouse Procedures and Standards Handbooks are available at: https://ies.ed.gov/ncee/wwc/Handbooks.

Program Authority: 20 U.S.C. 7231-7231j.

Note: Projects will be awarded and must be operated in a manner consistent with discrimination requirements contained in Federal civil rights laws.

Applicable Regulations: (a) The Education Department General Administrative Regulations in 34 CFR parts 75, 77, 79, 81, 82, 84, 97, 98, and 99. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474. (d) The regulations for this program in 34 CFR part 280. (e) Supplemental Priorities.

II. Award Information

Type of Award: Discretionary grants.

Estimated Available Funds: The Administration has requested $149,000,000 for the MSAP program for FY 2022, of which we would use an estimated $135,000,000 for awards under this competition. The actual level of funding, if any, depends on final congressional action. However, we are inviting applications to allow enough time to complete the grant process before the end of the current fiscal year, if Congress appropriates funds for this program.

Contingent upon the availability of funds and the quality of applications, we may make additional awards in FY 2023 from the list of unfunded applications from this competition.

Estimated Range of Awards: $1,000,000-$3,500,000 per budget year.

Maximum Award: We will not make an award to an LEA or a consortium of LEAS exceeding $15,000,000 for the project period. Under section 4408(b) of the ESEA, 20 U.S.C. 7231h, grantees may not expend more than 50 percent of the year one grant funds and not more than 15 percent of year two and three grant funds on planning activities. Professional development is not considered to be a planning activity.

Note: Yearly award amounts may vary.

Estimated Number of Awards: 30-40.

Note: The Department is not bound by any estimates in this notice.

Project Period: Up to 60 months.

III. Eligibility Information

1. Eligible Applicants: LEAs or consortia of LEAs implementing a desegregation plan as specified in section III. 4 of this notice.

2. Cost Sharing or Matching: This program does not require cost sharing or matching.

3. Subgrantees: A grantee under this competition may not award subgrants to entities to directly carry out project activities described in its application.

4. Other—Desegregation Plans: Per section 4404 of the ESEA and 34 CFR 280.20(e) and (f) of the regulations, to establish eligibility to receive MSAP assistance, applicants must also submit with their applications one of the following types of desegregation plans: (i) A desegregation plan required by a court order; (ii) a desegregation plan required by a State agency or an official of competent jurisdiction; (iii) a desegregation plan required by the Department's Office for Civil Rights (OCR) under Title VI of the Civil Rights Act of 1964 (Title VI); or (iv) a voluntary desegregation plan adopted by the applicant and submitted to the Department for approval as part of the application. Under the MSAP regulations, applicants are required to provide all of the information required in 34 CFR 280.20(a) through (g) in order to satisfy the civil rights eligibility requirements found in 34 CFR 280.2(a)(2) and (b).

Note: While voluntary desegregation plans must be approved by the school board of the submitting LEA or consortium of LEAs, these desegregation plans do not require Department approval prior to application submission. Review of applicants' voluntary desegregation plans is a component of the application review process under section 4404 of the ESEA, 20 U.S.C.7231c, and 34 CFR 280.2(b) to ensure that all grantees receiving funds have desegregation plans that are adequate under Title VI and, for each magnet school for which funding is sought, the magnet school will reduce, eliminate, or prevent MGI within the project period, either in the magnet school or in a feeder school, as appropriate.

In addition to the particular data and other items for required and voluntary desegregation plans described in the application package, per 34 CFR 280.20(e)(f) and(g), an application must include—

• Projected enrollment by race and ethnicity for magnet and feeder schools;

• Signed civil rights assurances; and

• An assurance that the desegregation plan is being implemented or will be implemented if the application is funded.

Finally, under section 4405(b)(1)(A) of the ESEA, 20 U.S.C. 7231d(b)(1)(A), applicants must describe “how a grant awarded under this part will be used to promote desegregation, including any available evidence on, or if such evidence is not available, a rationale, based on current research, for how the proposed magnet school programs will increase interaction among students of different social, economic, ethnic, and racial backgrounds.” To assist applicants in submitting succinct and comprehensive information to this end, the Application Package for this competition includes a Desegregation Plan Form OMB-1855-0011. Through this form, applicants will summarize their desegregation plan and describe: The plan's overarching goals; the definition of MGI being used by the LEA and the specific schools (either magnets or feeders) and racial/ethnic group(s) that have been identified as in need of reduction, prevention, or elimination of MGI; how these particular schools are currently part of the LEA's school configuration and enrollment patterns; and how the MSAP project and its proposed magnets are designed to effectively prevent, reduce, or eliminate MGI in elementary or secondary schools with substantial proportions of minority students.

Note: Section 4401(b)(1) of the ESEA, 20 U.S.C. 7231, describes the desegregation purpose of MSAP as the elimination, reduction, or prevention of MGI in elementary and secondary schools with substantial proportions of minority students. In accordance with section 4404 of the ESEA (20 U.S.C. 7231c) and 34 CFR 280.2, projects that are not designed to reduce, eliminate, or prevent MGI and to bring students from different social, economic, ethnic, and racial backgrounds together in accordance with an approved desegregation plan, are not eligible for MSAP funding. Additionally, for the purposes of the MSAP program, “feeder school” is defined in 34 CFR 280.4(b) as “a school from which students are drawn to attend the magnet school,” and refers to the schools that students attending magnet schools would otherwise have attended had the magnet school not been available.

Applicants are encouraged to elaborate on these summary descriptions and the content of their desegregation plans in the application's project narrative described in Section V of this notice and with an accompanying logic model demonstrating the conceptual framework for and graphically depicting how the applicant intends to achieve the summarized desegregation plan goals outlined above.

Required Desegregation Plans

1. Desegregation plans required by a court order. An applicant that submits a desegregation plan required by a court order must submit complete and signed copies of all court documents demonstrating that the magnet schools are a part of the approved desegregation plan. Examples of the types of documents that would meet this requirement include a Federal or State court order that establishes specific magnet schools, amends a previous order or orders by establishing additional or different specific magnet schools, requires or approves the establishment of one or more unspecified magnet schools, or authorizes the inclusion of magnet schools at the discretion of the applicant.

2. Desegregation plans required by a State agency or official of competent jurisdiction. An applicant submitting a desegregation plan ordered by a State agency or official of competent jurisdiction must provide documentation that shows that the desegregation plan was ordered based upon a determination that State law was violated. In the absence of this documentation, the applicant should consider its desegregation plan to be a voluntary plan and submit the data and information necessary for voluntary plans.

3. Desegregation plans required by OCR under Title VI. An applicant that submits a desegregation plan required by OCR under Title VI must submit a complete copy of the desegregation plan demonstrating that magnet schools are part of the approved plan or that the plan authorizes the inclusion of magnet schools at the discretion of the applicant.

4. Modifications to required desegregation plans. A previously approved desegregation plan that does not include the magnet school or program for which the applicant is now seeking assistance must be modified to include the magnet school component. The modification to the desegregation plan must be approved by the court, agency, or official that originally approved the plan. An applicant that wishes to modify a previously approved OCR Title VI desegregation plan to include different or additional magnet schools must submit the proposed modification for review and approval to the OCR regional office that approved its original plan.

An applicant should indicate in its application if it is seeking to modify its previously approved desegregation plan. However, all applicants must submit proof of approval of all modifications to their plans to the Department by June 22, 2022. Proof of plan modifications should be emailed to Gillian Cohen-Boyer at msap.team@ed.gov or mailed to her at: U.S. Department of Education, 400 Maryland Avenue SW, Room 3C134, Washington, DC 20202-5970. Telephone: (202) 401-1259.

Voluntary Desegregation Plans

A voluntary desegregation plan must be approved by the Department each time an application is considered for funding. Even if the Department has approved a voluntary desegregation plan in an LEA in the past, to be reviewed, the desegregation plan must be resubmitted with the application by the application deadline.

The Department will determine on a case-by-case basis whether a district's voluntary plan meets the statutory purpose of reducing, eliminating, or preventing MGI in its magnet or feeder schools, considering the unique circumstances in each district and school. As part of this consideration, the Department will consider, consistent with 20 U.S.C. 7231(b)(1), whether the project is designed to eliminate, reduce, or prevent MGI in elementary and/or secondary schools with substantial proportions of students from any minority group(s). We also note that Congress has recognized that “segregation exists between minority and nonminority students as well as among students of different minority groups.” Section 4401(a)(4)(C) of the ESEA, 20 U.S.C. 7231(a)(4)(C). This case-by-case review will include an examination of the factual basis for any proposed increases in enrollment of students from minority groups at district schools; for example, the Department will consider whether a plan to reduce, eliminate, or prevent MGI at a magnet school or at a feeder school would significantly increase MGI at any other magnet or feeder school in the LEA at the grade levels served by the magnet school.

An applicant's voluntary desegregation plan must describe how the LEA defines or identifies MGI; demonstrate how the LEA will reduce, eliminate, or prevent MGI for each magnet school in the proposed project, and, if relevant, at identified feeder schools; and demonstrate that the proposed voluntary desegregation plan is adequate under Title VI.

Under 34 CFR 280.20(f) and (g), applicants with voluntary desegregation plans must submit complete and accurate enrollment forms and other information to demonstrate their eligibility (specific requirements are detailed in the application package).

Voluntary desegregation plan applicants must submit documentation of school board approval or documentation of other official adoption of the plan as required under 34 CFR 280.20(f)(2) when submitting their application. LEAs that were previously under a required desegregation plan, but have achieved unitary status and so are voluntary desegregation plan applicants, typically would not need to include court orders. Rather, such applications should provide the documentation discussed in this section.

5. Single-Sex Programs: An applicant proposing to operate a single-sex magnet school or a coeducational magnet school that offers single-sex classes or extracurricular activities will undergo a review of its proposed single-sex educational program to determine compliance with applicable nondiscrimination laws, including the Equal Protection Clause of the U.S. Constitution (as interpreted in United States v. Virginia, 518 U.S. 515 (1996), and other cases) and Title IX of the Education Amendments of 1972 (20 U.S.C. 1681, et seq.) and its regulations—including 34 CFR 106.34. This review may require the applicant to provide additional fact-specific information about the single-sex program.

IV. Application and Submission Information

1. Application Submission Instructions: Applicants are required to follow the Common Instructions for Applicants to Department of Education Discretionary Grant Programs, published in the Federal Register on December 27, 2021 (86 FR 73264) and available at www.federalregister.gov/d/2021-27979, which contain requirements and information on how to submit an application. Please note that these Common Instructions supersede the version published on February 13, 2019, and, in part, describe the transition from the requirement to register in SAM.gov a DUNS number to the implementation of the UEI. More information on the phase-out of DUNS numbers is available at www2.ed.gov/about/offices/list/ofo/docs/unique-entity-identifier-transition-fact-sheet.pdf.

2. Submission of Proprietary Information: Given the types of projects that may be proposed in applications for the MSAP, your application may include business information that you consider proprietary. In 34 CFR 5.11, we define “business information” and describe the process we use in determining whether any of that information is proprietary, and thus protected from disclosure under Exemption 4 of the Freedom of Information Act (5 U.S.C. 552, as amended).

Because we plan to make successful applications available to the public, you may wish to request confidentiality of business information.

Consistent with Executive Order 12600, please designate in your application any information that you believe is exempt from disclosure under Exemption 4. In the appropriate Appendix section of your application, under “Other Attachments Form,” please list the page number or numbers on which we can find this information. For additional information, please see 34 CFR 5.11(c).

3. Intergovernmental Review: This program is subject to Executive Order 12372 and the regulations in 34 CFR part 79. Information about Intergovernmental Review of Federal Programs under Executive Order 12372 is in the application package for this competition.

4. Funding Restrictions: Unallowable costs are specified in section 4407 of the ESEA (20 U.S.C. 7231f). We reference additional regulations outlining funding restrictions in the Applicable Regulations section of this notice.

5. Recommended Page Limit: The application narrative is where you, the applicant, address the selection criteria that reviewers use to evaluate your application. We recommend that you (1) limit the application narrative to 150 pages and (2) use the following standards:

• A “page” is 8.5″ x 11″, on one side only, with 1″ margins at the top, bottom, and both sides.

• Double space (no more than three lines per vertical inch) all text in the application narrative, including titles, headings, footnotes, quotations, references, and captions, as well as all text in charts, tables, figures, and graphs.

• Use a font that is either 12 point or larger or no smaller than 10 pitch (characters per inch).

• Use one of the following fonts: Times New Roman, Courier, Courier New, or Arial.

The recommended page limit does not apply to the cover sheet; the budget section, including the narrative budget justification; the assurances, certifications, the desegregation plan and related information, and the tables used to respond to Competitive Preference Priorities 2 and 3; or the one-page abstract, the resumes, or letters of support. However, the recommended page limit does apply to all of the application narrative.

6. Notice of Intent to Apply: The Department will be able to review grant applications more efficiently if we know the approximate number of applicants that intend to apply. Therefore, we strongly encourage each potential applicant to notify the Department of their intent to submit an application. To do so, please submit your intent to apply by emailing msap.team@ed.gov with the subject line, “[LEA Name(s)] Intent to Apply.” Applicants that do not notify the Department of their intent to apply may still apply for funding.

V. Application Review Information

1. Selection Criteria: The selection criteria are from 34 CFR 75.210 and 280.31, and sections 4401 and 4405 of the ESEA.

The maximum score for all of the selection criteria is 100 points. The maximum score for each criterion is included in parentheses following the title of the specific selection criterion. Each criterion also includes the factors that reviewers will consider in determining the extent to which an applicant meets the criterion.

Points awarded under these selection criteria are in addition to any points an applicant earns under the competitive preference priorities in this notice. The maximum score that an application may receive under the competitive preference priorities and the selection criteria is 115 points.

(a) Desegregation (up to 30 points).

The Secretary reviews each application to determine the quality of the desegregation-related activities, including:

(1) The effectiveness of the applicant's proposed desegregation strategies for the elimination, reduction, or prevention of MGI in elementary schools and secondary schools with substantial proportions of minority students. (ESEA section 4401(b)(1))(up to 6 points)

(2) The effectiveness of its plan to recruit students from different social, economic, ethnic, and racial backgrounds into the magnet schools. (34 CFR 280.31) (up to 6 points)

(3) How it will foster interaction among students of different social, economic, ethnic, and racial backgrounds in classroom activities, extracurricular activities, or other activities in the magnet schools (or, if appropriate, in the schools in which the magnet school programs operate). (34 CFR 280.31) (up to 6 points)

(4) The importance or magnitude of the results or outcomes likely to be attained by the proposed project. (34 CFR 75.210) (up to 6 points)

(5) The extent to which there is a conceptual framework underlying the proposed research or demonstration activities and the quality of that framework. (34 CFR 75.210) (up to 6 points)

(b) Quality of the project design (up to 30 points).

The Secretary reviews each application to determine the quality of the project design. In determining the quality of the design of the proposed project, the Secretary considers the following factors:

(1) The manner and extent to which the magnet school program will increase student academic achievement in the instructional areas offered by the school, including any evidence, or if such evidence is not available, a rationale based on current research findings, to support such description. (ESEA section 4405(b)(1)(B)) (up to 6 points)

(2) The extent to which the training or professional development services to be provided by the proposed project are of sufficient quality, intensity, and duration to lead to improvements in practice among the recipients of those services. (34 CFR 75.210) (up to 6 points)

(3) The extent to which each magnet school for which funding is sought will encourage greater parental decision-making and involvement. (34 CFR 280.31) (up to 6 points)

(4) The extent to which the services to be provided by the proposed project involve the collaboration of appropriate partners for maximizing the effectiveness of project services. (34 CFR 75.210) (up to 6 points)

(5) How it will improve the capacity of the LEAs to continue operating magnet schools at a high performance level after Federal funding for the magnet schools is terminated. (ESEA section 4401(b)(5)) (up to 6 points)

(c) Quality of the management plan (up to 15 points).

The Secretary considers the quality of the management plan for the proposed project. In determining the quality of the management plan for the proposed project, the Secretary considers the following factors:

(1) The adequacy of the management plan to achieve the objectives of the proposed project on time and within budget, including clearly defined responsibilities, timelines, and milestones for accomplishing project tasks. (34 CFR 75.210) (up to 5 points)

(2) The extent to which the applicant is committed to the magnet school project and has identified other resources to continue support for the magnet school activities when assistance under this program is no longer available. (34 CFR 280.31) (up to 5 points)

(3) The extent to which the costs are reasonable in relation to the number of persons to be served and to the anticipated results and benefits. (34 CFR 75.210) (up to 5 points)

(d) Quality of personnel (up to 5 points).

(1) The Secretary reviews each application to determine the qualifications of the personnel the applicant plans to use on the project. The Secretary determines the extent to which—

(a) The project director (if one is used) is qualified to manage the project;

(b) Other key personnel are qualified to manage the project; and

(c) Teachers who will provide instruction in participating magnet schools are qualified to implement the special curriculum of the magnet schools. (34 CFR 280.31) (up to 3 points)

(2) To determine personnel qualifications, the Secretary considers experience and training in fields related to the objectives of the project, including the key personnel's knowledge of and experience in curriculum development and desegregation strategies. (34 CFR 280.31) (up to 2 points)

(e) Quality of the project evaluation (up to 20 points).

The Secretary considers the quality of the evaluation to be conducted of the proposed project. In determining the quality of the evaluation, the Secretary considers the following factors:

(1) How the applicant will assess, monitor, and evaluate the impact of the activities funded under this part on student achievement and integration. (ESEA section 4405(b)(1)(D)) (up to 6 points)

(2) The extent to which the methods of evaluation include the use of objective performance measures that are clearly related to the intended outcomes of the project and will produce quantitative and qualitative data to the extent possible. (34 CFR 75.210) (up to 7 points)

(3) The extent to which the methods of evaluation will, if well implemented, produce promising evidence (as defined in 34 CFR 77.1(c)) about the project's effectiveness. (34 CFR 75.210) (up to 7 points)

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances, including those applicable to Federal civil rights laws that prohibit discrimination in programs or activities receiving Federal financial assistance from the Department (34 CFR 100.4, 104.5, 106.4, 108.8, and 110.23).

3. Risk Assessment and Specific Conditions: Consistent with 2 CFR 200.206, before awarding grants under this competition the Department conducts a review of the risks posed by applicants. Under 2 CFR 200.208, the Secretary may impose specific conditions and, under 2 CFR 3474.10, in appropriate circumstances, high-risk conditions on a grant if the applicant or grantee is not financially stable; has a history of unsatisfactory performance; has a financial or other management system that does not meet the standards in 2 CFR part 200, subpart D; has not fulfilled the conditions of a prior grant; or is otherwise not responsible.

4. Integrity and Performance System: If you are selected under this competition to receive an award that over the course of the project period may exceed the simplified acquisition threshold (currently $250,000) under 2 CFR 200.206(a)(2), we must make a judgment about your integrity, business ethics, and record of performance under Federal awards—that is, the risk posed by you as an applicant—before we make an award. In doing so, we must consider any information about you that is in the integrity and performance system (currently referred to as the Federal Awardee Performance and Integrity Information System (FAPIIS), accessible through the System for Award Management. You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

5. In General: In accordance with the Office of Management and Budget's guidance located at 2 CFR part 200, all applicable Federal laws, and relevant Executive guidance, the Department will review and consider applications for funding pursuant to this notice inviting applications in accordance with:

(a) Selecting recipients most likely to be successful in delivering results based on the program objectives through an objective process of evaluating Federal award applications (2 CFR 200.205);

(b) Prohibiting the purchase of certain telecommunication and video surveillance services or equipment in alignment with section 889 of the National Defense Authorization Act of 2019 (Pub. L. 115-232) (2 CFR 200.216);

(c) Providing a preference, to the extent permitted by law, to maximize use of goods, products, and materials produced in the United States (2 CFR 200.322); and

(d) Terminating agreements in whole or in part to the greatest extent authorized by law if an award no longer effectuates the program goals or agency priorities (2 CFR 200.340).

VI. Award Administration Information

1. Award Notices: If your application is successful, we notify your U.S. Representative and U.S. Senators and send you a Grant Award Notification (GAN); or we may send you an email containing a link to access an electronic version of your GAN. We may notify you informally as well.

If your application is not evaluated or not selected for funding, we will notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works. Additionally, a grantee or subgrantee that is awarded competitive grant funds must have a plan to disseminate these public grant deliverables. This dissemination plan can be developed and submitted after your application has been reviewed and selected for funding. For additional information on the open licensing requirements, please refer to 2 CFR 3474.20.

4. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

(c) If awarded a grant, applicants must also submit a final evaluation report addressing the study to produce promising evidence under selection criterion factor (e)(3).

5. Performance Measures: For the purposes of reporting under 34 CFR 75.110, the following six performance measures have been established for the MSAP:

(a) The number and percentage of magnet schools receiving assistance whose student enrollment eliminates, reduces, or prevents MGI.

(b) The percentage increase of students from major racial and ethnic groups in magnet schools receiving assistance who score proficient or above on State assessments in reading/language arts as compared to the previous year.

(c) The percentage increase of students from major racial and ethnic groups in magnet schools receiving assistance who score proficient or above on State assessments in mathematics as compared to the previous year.

(d) The percentage of MSAP-funded magnet schools still operating magnet school programs three years after Federal funding ends.

(e) The percentage increase of students from major racial and ethnic groups in MSAP-funded magnet schools still operating magnet school programs who score proficient or above on State assessments in reading/language arts three years after Federal funding ends as compared to the final project year.

(f) The percentage increase of students from major racial and ethnic groups in MSAP-funded magnet schools still operating magnet school programs who score proficient or above on State assessments in mathematics three years after Federal funding ends as compared to the final project year.

6. Continuation Awards: In making a continuation award under 34 CFR 75.253, the Secretary considers, among other things: Whether a grantee has made substantial progress in achieving the goals and objectives of the project; whether the grantee has expended funds in a manner that is consistent with its approved application and budget; and, if the Secretary has established performance measurement requirements, whether the grantee has made substantial progress in achieving the performance targets in the grantee's approved application.

In making a continuation award, the Secretary also considers whether the grantee is operating in compliance with the assurances in its approved application, including those applicable to Federal civil rights laws that prohibit discrimination in programs or activities receiving Federal financial assistance from the Department (34 CFR 100.4, 104.5, 106.4, 108.8, and 110.23).

VII. Other Information

Accessible Format: On request to the program contact person listed under FOR FURTHER INFORMATION CONTACT, individuals with disabilities can obtain this document and a copy of the application package in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF, you must have Adobe Acrobat Reader, which is available free at the site.

You may also access documents of the Department published in the Federal Register by using the article search feature at www.federalregister.gov. Specifically, through the advanced search feature at this site, you can limit your search to documents published by the Department.

Ruth E. Ryder,
Deputy Assistant Secretary for Policy and Programs, Office of Elementary and Secondary Education.

[FR Doc. 2022-03643 Filed 2-18-22; 8:45 am]

BILLING CODE 4000-01-P